DEPARTMENT OF THE INTERIOR

Fish and Wildlife Service

Endangered and Threatened Species Permit Applications

AGENCY: Fish and Wildlife Service, Interior.

ACTION: Notice of receipt of applications.

SUMMARY: The following applicants have applied for permits to conduct certain activities with endangered species. This notice is provided pursuant to section 10(c) of the Endangered Species Act of 1973, as amended (16 U.S.C. 1531, et seq.).

DATES: Written data or comments should be submitted to the Regional Director, U.S. Fish and Wildlife Service, Ecological Services, 1 Federal Drive, Fort Snelling, Minnesota 55111-4056, and must be received on or before August 18, 2005.

FOR FURTHER INFORMATION CONTACT: Mr. Peter Fasbender, (612) 713-5343.

SUPPLEMENTARY INFORMATION: Permit Number: TE040881-1.

Applicant: Timothy Carter.

The applicant requests a permit amendment to take the Indiana bat (Myotis sodalis) and gray bat (M. grisescens) in Georgia. The scientific research is aimed at enhancement of survival of the species in the wild.

Permit Number: TE106217.

Applicant: The Toledo Zoo, Toledo, Ohio.

The applicant requests a permit to take Mitchell's satyr (Neonympha mitchelli mitchelli) throughout Ohio. The scientific research is aimed at enhancement of survival of the species in the wild.

Permit Number: TE106220.

Applicant: Brianne Everson, Terre Haute, Indiana.

The applicant requests a permit to take the Indiana bat (Myotis sodalis) throughout Illinois and Indiana. The scientific research is aimed at enhancement of survival of the species in the wild.

Permit Number: TE106221.

Applicant: Susan Haig, Corvallis, Oregon.

The applicant requests a permit to take the Least tern (Sterna antillarum) throughout its range in the United States. The scientific research is aimed at enhancement of survival of the species in the wild.

Permit Number: TE106224.

Applicant: Ralph Taylor, Barboursville, West Virginia.

The applicant requests a permit to take (collect and hold) all endangered mussel species throughout the Ohio River system in eastern and central United States. The scientific research is aimed at enhancement of survival of the species in the wild.

Dated: June 14, 2005.
Wendi Weber,
Assistant Regional Director, Ecological Services, Region 3, Fort Snelling, Minnesota.

[FR Doc. 05-14159 Filed 7-18-05; 8:45 am]

BILLING CODE 4310-55-P